ENVIRONMENTAL PROTECTION AGENCY

40 CFR Parts 52 and 81

[EPA-R05-OAR-2009-0730; FRL-9172-9]

Approval and Promulgation of Implementation Plans and Designation of Areas for Air Quality Planning Purposes; Wisconsin; Redesignation of the Manitowoc County and Door County Areas to Attainment for Ozone

AGENCY: Environmental Protection Agency (EPA).

ACTION: Final rule.

SUMMARY: EPA is approving Wisconsin's requests to redesignate the Manitowoc County and Door County, Wisconsin nonattainment areas to attainment for the 1997 8-hour ozone standard because the requests meet the statutory requirements for redesignation under the Clean Air Act (CAA). The Wisconsin Department of Natural Resources (WDNR) submitted these requests on September 11, 2009.

These approvals involve several related actions. EPA is making determinations under the CAA that the Manitowoc County and Door County areas have attained the 1997 8-hour ozone National Ambient Air Quality Standard (NAAQS). These determinations are based on three years of complete, quality-assured and certified ambient air quality monitoring data for the 2006-2008 ozone seasons that demonstrate that the 8-hour ozone NAAQS has been attained in the areas. Complete, quality-assured air quality data for the 2009 ozone season have been recorded in the EPA's Air Quality System (AQS) and show that the areas continue to attain the 8-hour ozone standard. EPA is also approving, as revisions to the Wisconsin State Implementation Plan (SIP), the State's plans for maintaining the 8-hour ozone NAAQS through 2020 in the areas.

EPA is approving the 2005 base year emissions inventories for the Manitowoc County and Door County areas as meeting the base year emissions inventory requirement of the CAA. WDNR submitted these base year emissions inventories on June 12, 2007. Finally, EPA finds adequate and is proposing to approve the State's 2012 and 2020 Motor Vehicle Emission Budgets (MVEBs) for the Manitowoc County and Door County areas.

DATES: This final rule is effective July 12, 2010.

ADDRESSES: EPA has established a docket for this action: Docket ID No. EPA-R05-OAR-2009-0730. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Kathleen D'Agostino, Environmental Engineer, at (312) 886-1767 before visiting the Region 5 office.

FOR FURTHER INFORMATION CONTACT: Kathleen D'Agostino, Environmental Engineer, Attainment Planning and Maintenance Section, Air Programs Branch (AR-18J), U.S. Environmental Protection Agency, Region 5, 77 West Jackson Boulevard, Chicago, Illinois 60604, (312) 886-1767, dagostino.kathleen@epa.gov.

SUPPLEMENTARY INFORMATION: Throughout this document whenever “we,” “us,” or “our” is used, we mean EPA. This supplementary information section is arranged as follows:

Table of Contents

I. What is the background for these actions?

II. What comments did we receive on the Proposed Rule?

III. What action is EPA taking?

IV. Statutory and Executive Order Reviews

I. What is the background for these actions?

The background for today's actions is discussed in detail in EPA's April 27, 2010, proposal (75 FR 22047). In that rulemaking, we noted that, under EPA regulations at 40 CFR part 50, the 8-hour ozone standard is attained when the three-year average of the annual fourth-highest daily maximum 8-hour average ozone concentrations is less than or equal to 0.08 ppm. (See 69 FR 23857 (April 30, 2004) for further information.) Under the CAA, EPA may redesignate nonattainment areas to attainment if sufficient complete, quality-assured data are available to determine that the area has attained the standard and if it meets the other CAA redesignation requirements in section 107(d)(3)(E).

The WDNR submitted requests to redesignate the Manitowoc County and Door County areas to attainment for the 1997 8-hour ozone standard on September 11, 2009. The redesignation requests included three years of complete, quality-assured data for the period of 2006 through 2008, indicating the 8-hour NAAQS for ozone, as promulgated in 1997, had been attained for the Manitowoc County and Door County areas. Complete, quality-assured monitoring data in AQS but not yet certified for the 2009 ozone season show that the areas continue to attain the 8-hour ozone standard. The April 27, 2010, proposed rule provides a detailed discussion of how Wisconsin met this and other CAA requirements.

II. What comments did we receive on the proposed rule?

EPA provided a 30-day review and comment period. The comment period closed on May 27, 2010. EPA received comments in support of the redesignation from the Door County Board of Supervisors and the Door County Economic Development Corporation. We received no adverse comments on the proposed rule.

III. What action is EPA taking?

EPA is making determinations that the Manitowoc County and Door County areas have attained the 1997 8-hour ozone NAAQS. EPA is also approving the maintenance plan SIP revisions for the Manitowoc County and Door County areas. EPA's approval of the maintenance plans is based on the State's demonstrations that the plans meet the requirements of section 175A of the CAA. After evaluating the redesignation requests submitted by WDNR, EPA believes that the requests meet the redesignation criteria set forth in section 107(d)(3)(E) of the CAA. Therefore, EPA is approving the redesignation of the Manitowoc County and Door County areas from nonattainment to attainment for the 1997 8-hour ozone NAAQS. EPA is also approving WDNR's 2005 base year emissions inventory for the Manitowoc County and Door County areas as meeting the requirements of section 172(c)(3) of the CAA. Finally, EPA finds adequate and is approving the Wisconsin's 2012 and 2020 MVEBs for the Manitowoc County and Door County areas.

In accordance with 5 U.S.C. 553(d), EPA finds there is good cause for this action to become effective immediately upon publication. This is because a delayed effective date is unnecessary due to the nature of a redesignation to attainment, which relieves the area from certain CAA requirements that would otherwise apply to it. The immediate effective date for this action is authorized under both 5 U.S.C. 553(d)(1), which provides that rulemaking actions may become effective less than 30 days after publication if the rule “grants or recognizes an exemption or relieves a restriction,” and section 553(d)(3), which allows an effective date less than 30 days after publication “as otherwise provided by the agency for good cause found and published with the rule.” The purpose of the 30-day waiting period prescribed in section 553(d) is to give affected parties a reasonable time to adjust their behavior and prepare before the final rule takes effect. Today's rule, however, does not create any new regulatory requirements such that affected parties would need time to prepare before the rule takes effect. Rather, today's rule relieves the state of various requirements for this 8-hour ozone nonattainment area. For these reasons, EPA finds good cause under 5 U.S.C. 553(d)(3) for this action to become effective on the date of publication of this action.

IV. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. These actions do not impose additional requirements beyond those imposed by state law and the CAA. For that reason, these actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law. Even though this rule does not have “tribal implications” under Executive Order 13175, nonetheless, EPA provided notice of the proposal to the Wisconsin tribes. The tribes raised no concerns with the proposed rule.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 10, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Nitrogen oxides, Ozone, Volatile organic compounds.

40 CFR Part 81

Air pollution control, Environmental protection, National parks, Wilderness areas.

Dated: June 28, 2010.
Bharat Mathur,
Acting Regional Administrator, Region 5.

Parts 52 and 81, chapter I, title 40 of the Code of Federal Regulations is amended as follows:

PART 52—[AMENDED]

1. The authority citation for part 52 continues to read as follows:

Authority: 42 U.S.C. 7401 et seq.

Subpart YY—Wisconsin

2. Section 52.2585 is amended by adding paragraphs (w) and (x) to read as follows:

§ 52.2585 Control strategy: Ozone.

* * * * *

(w) Approval—On June 12, 2007, Wisconsin submitted 2005 VOC and NOX base year emissions inventories for the Manitowoc County and Door County areas. Wisconsin's 2005 inventories satisfy the base year emissions inventory requirements of section 172(c)(3) of the Clean Air Act for the Manitowoc County and Door County areas under the 1997 8-hour ozone standard.

(x) Approval—On September 11, 2009, Wisconsin submitted requests to redesignate the Manitowoc County and Door County areas to attainment of the 1997 8-hour ozone standard. As part of the redesignation requests, the State submitted maintenance plans as required by section 175A of the Clean Air Act. Elements of the section 175 maintenance plans include contingency plans and an obligation to submit subsequent maintenance plan revisions in 8 years as required by the Clean Air Act. The ozone maintenance plans also establish 2012 and 2020 Motor Vehicle Emission Budgets (MVEBs) for the areas. The 2012 MVEBs for the Manitowoc County and Door County areas are 1.76 tons per day (tpd) for VOC and 3.76 tpd for NOX, and 0.78 tpd for VOC and 1.55 tpd for NOX, respectively. The 2020 MVEBs for the Manitowoc County and Door County areas are 1.25 tpd for VOC and 1.86 tpd for NOX, and 0.53 tpd for VOC and 0.74 tpd for NOX, respectively.

PART 81—[AMENDED]

1. The authority citation for part 81 continues to read as follows:

Authority: 42 U.S.C. 7401 et seq.

2. Section 81.350 is amended by revising the entries for Door County, WI and Manitowoc County, WI in the table entitled “Wisconsin-Ozone (8-Hour Standard)” to read as follows:

§ 81.350 Wisconsin.

* * * * *

Wisconsin-Ozone (8-Hour Standard)
Designated area | Designation ᵃ: Date ¹ | Designation ᵃ: Type | Classification: Date ¹ | Classification: Type
Door County, WI: Door County | July 12, 2010 | Attainment. |  |
* * * * * * *
Manitowoc County, WI: Manitowoc County | July 12, 2010 | Attainment. |  |
* * * * * * *
ᵃ Includes Indian Country located in each county or area, except as otherwise specified.
¹ This date is June 15, 2004, unless otherwise noted.

* * * * *

[FR Doc. 2010-16706 Filed 7-9-10; 8:45 am]

BILLING CODE 6560-50-P